DEPARTMENT OF TRANSPORTATION

Federal Aviation Administration

Notice of Intent To Rule on Request To Release Airport Property at Lafayette Regional Airport, Lafayette, LA

AGENCY: Federal Aviation Administration (FAA) DOT.

ACTION: Request for public comment.

SUMMARY: The FAA proposes to rule and invites the public comment on the release of land at the Lafayette Regional Airport that is neither Surplus property (49 U.S.C. 47151 et seq.) no property acquired with any Airport Improvement Program (AIP) funds (49 U.S.C. 47107).

DATES: Comments must be received on or before November 13, 2007.

ADDRESSES: Comments on this application may be mailed or delivered to FAA at the following address: Mr. Lacey D. Spriggs, Manager, Federal Aviation Administration, Southwest Region, Airports Division, Louisiana/New Mexico Airports Development Office, ASW-640, Fort Worth, Texas 76137-4298.

In addition, one copy of any comments submitted to the FAA must be mailed or delivered to Mr. Gregory M. Roberts, Director of Aviation, Lafayette Regional Airport at the following address: Lafayette Regional Airport, 200 Terminal Drive, Lafayette, Louisiana 70508-2159.

FOR FURTHER INFORMATION CONTACT: Ilia A. Quinones, Program Manager, Federal Aviation Administration, Louisiana/New Mexico Airports Development Office, ASW-640F, 2601 Meacham Boulevard, Fort Worth, Texas 76137-4298.

The request to release property may be reviewed in person at this same location.

SUPPLEMENTARY INFORMATION: The FAA invites public comment on the airport sponsor's request to release property at the Lafayette Regional Airport. The Lafayette Airport Commission requests the release of ± 6.013 acres (five parcels) of airport property. The release of this airport property along the existing U.S. Highway 90 will allow for the sale of these five parcels of airport property to the State of Louisiana, Department of Transportation and Development, which will allow for the construction of the I-49 Connector Project to proceed. The sale is estimated to provide $1,324,370.00 to the Lafayette Airport Commission that will allow the Lafayette Airport Commission to pay the airport sponsor's share for the development of a major cargo apron facility at the Lafayette Regional Airport.

Any person may inspect the request in person at the FAA office listed above under FOR FURTHER INFORMATION CONTACT.

In addition, any person may, upon request, inspect the application, notice and other documents germane to the application in person at the Lafayette Regional Airport.

Dated: Issued in Fort Worth, Texas, on October 3, 2007.
Joseph G. Washington,
Acting Manager, Airports Division.

[FR Doc. 07-5035 Filed 10-11-07; 8:45 am]

BILLING CODE 4910-13-M